DEPARTMENT OF VETERANS AFFAIRS

Veterans Benefits Administration

Web Automated Reference Material System

AGENCY: Department of Veterans Affairs.

ACTION: Notice.

FOR FURTHER INFORMATION CONTACT: Aimee Benson, Chief of the Procedures Maintenance Staff, Compensation Service, at (202) 461-9700 or via email at M21-1.VBAVACO@va.gov.

SUPPLEMENTARY INFORMATION: The Web Automated Reference Manual System (WARMS), available at http://www.benefits.va.gov/WARMS/, provides public access to Department of Veterans Affairs (VA) benefits policies and procedures issued in the form of manuals, directives, and handbooks. Historically, the Veterans Benefits Administration's Adjudication Procedures Manual, M21-1, for VA's Compensation, Pension, Dependency and Indemnity Compensation, and monetary Burial benefits programs, was electronically available to the public only in WARMS. WARMS displays M21-1 content in individual Microsoft Word documents, currently in excess of 300 documents, making it difficult to search for information or navigate from one citation to another.

On April 15, 2015, VA began providing additional electronic public access to M21-1 through the KnowVA Knowledge Base, available at http://www.knowva.ebenefits.va.gov/. The M21-1 content found on KnowVA is a mirror image of the M21-1 content available to VA employees through internal servers and is updated simultaneously when VA updates M21-1 content on the internal servers. Moreover, KnowVA is more user friendly than WARMS, with an intuitive search engine, keyword search capability, hyperlinked cross references to other M21-1 content, and historical versions of M21-1 content, making it easier for users to locate information.

Consequently, effective March 28, 2016, VA will remove the duplicative M21-1 content available through WARMS and will direct users to KnowVA for access to the M21-1. VA will only remove duplicative M21-1 content that is now available, content not available in KnowVA will continue to be available through WARMS.

Signing Authority

The Secretary of Veterans Affairs, or designee, approved this document and authorized the undersigned to sign and submit the document to the Office of the Federal Register for publication electronically as an official document of the Department of Veterans Affairs. Robert D. Snyder, Interim Chief of Staff, Department of Veterans Affairs, approved this document on March 11, 2016, for publication.

Dated: March 16, 2016.
Michael Shores,
Chief Impact Analyst, Office of Regulation Policy & Management, Office of the General Counsel, Department of Veterans Affairs.

[FR Doc. 2016-06257 Filed 3-18-16; 8:45 am]

BILLING CODE 8320-01-P